DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220; e-mail: NIHOTT@od.nih.gov. A signed Confidential Disclosure Agreement will be required to receive copies of the patent applications.

Vessel Delineation in Magnetic Resonance Angiographic Images

Peter Yim (CC)

Serial No. 60/181,990 filed 11 Feb 2000

Licensing Contact: Carol Salata; 301/496-7735 ext. 232; e-mail: salatac@od.nih.gov

This invention relates to advances in magnetic resonance angiography (MRA) or the imaging of blood vessels in the body for the evaluation of vascular pathology. Presented are new methods for processing magnetic resonance angiographic images, or angiograms, to delineate certain vessels in an angiogram. These methods find particular utility in highly vascular regions of the body such as the cerebrum, heart, abdomen and extremities where there is extensive overlapping and variation in the size of the vessels. Current MRA methods are unable to generate high-resolution images of complex vessel geometries in these dynamic environments. The patent application for this invention covers algorithms and computer-implemented methods for tracking the paths of vessels in magnetic resonance angiography. Also covered are similar methods for digital image processing in alternative imaging technologies such as tomography and X-ray angiography.

Methods for Predicting the Biological, Chemical, and Physical Properties of Molecules From Their Spectral Properties

Dwight W. Miller et al. (FDA)

Serial No. 09/496,314 filed 01 Feb 2000

Licensing Contact: Peter Soukas; 301/496-7056 ext. 268; e-mail: soukasp@od.nih.gov

The number of known chemical compounds is enormous, and the number is constantly increasing. While there are a vast number of chemical compounds, only a relative few of those compounds may exhibit a particular desirable property, such as pharmaceutical activity. Random testing of known compounds to identify those compounds which show pharmaceutical activity is very expensive and time-consuming. Similarly, there is also a need to screen compounds for toxicity, so that rational decisions can be made regarding the use and regulation of compounds that have toxic potential. At present, only a fraction of known compounds have been thoroughly tested for their toxicological and potential therapeutic properties.

Scientists have developed methods which attempt to predict which compounds are likely to exhibit a particular property. The present invention provides a method for establishing a quantitative relationship between spectral properties of molecules and a biological, chemical, or physical endpoint of the molecules. The present invention further provides methods for rapidly screening isolated compounds or mixtures of compounds based upon their spectral data.

Molecules That Influence Pathogen Resistance

Gregory A. Taylor and George F. Vande Woude (NCI)

DHHS Reference No. E-068-00/0 filed 03 Jan 2000

Licensing Contact: J.P. Kim; 301/496-7056 ext. 264; e-mail: kimj@od.nih.gov

Interferon-gamma (IFN-γ) is an important cytokine for control of infectious agents and regulation of the immune system. IFN-γ is thought to exert its effects largely by activation of IFNγ-responsive genes. One recently identified IFNγ-regulated gene is IGTP. It has been found that the IGTP-family proteins mediate the immune response of mammals to various infectious pathogens. In particular, it has been noted that IGTP functions as a downstream mediator of IFN-γ and appears particularly important to host response in parasitic infection.

The present invention provides for the prevention and treatment of infectious diseases through modification of immune response(s), in particular, to the involvement of GTPase molecule(s) in such immune responses to infectious disease (such as parasitic (e.g., protozoan) disease).

Method of Treating a Viral Infection Using Antagonists or Macrophage Colony Stimulating Factor (M-CSF)

Clouse-Strebel et al. (FDA)

DHHS Reference No. E-255-99/0 filed 08 Nov 1999

Licensing Contact: J.P. Kim; 301/496-7056 ext. 264; e-mail: kimj@od.nih.gov

Colony stimulating factors (CSF's) are a class of proteins that stimulate growth and development of bone marrow progenitor cells into mature cells, such as granulocytes, macrophages, megakaryocytes, erythrocytes, lymphocytes, and mast cells. One of these factors is macrophage colony stimulating factor (M-CSF), a homodimeric glycoprotein with subunits linked by disulfide bonds. M-CSF is also known as CSF-1, CSF-69, LSF, MGF, and CSF-HU.

The present invention provides for a method for treating a viral infection, such as HIV-1 and HIV-2, using an amount of an antagonist of M-CSF sufficient to inhibit replication of the virus, either administered alone or in combination with another anti-viral agent.

S-Nitrosoglutathione as a Protease Inhibitor for the Treatment of AIDS and Neurodegenerative Disorders

Chuang C. Chiueh (NIMH), Sang Y. Lee (NIMH), David A. Davis (NCI), Robert Yarchoan (NCI)

DHHS Reference No. E-008-00/0 filed 01 Nov 1999

Licensing Contact: J.P. Kim; 301/496-7056 ext. 264; e-mail: kimj@od.nih.gov

The human immunodeficiency virus (HIV) is the causative agent of acquired immunodeficiency syndrome (AIDS). Over the years, drug-resistance has been a critical factor contributing to the gradual loss of clinical benefit to treatments for HIV infection. There has been great concern regarding this apparent growing resistance of HIV strains to current therapies. Accordingly, there is a great need for new effective HIV therapeutics.

The present invention provides for the use of nitrosylating compounds, such as S-Nitrosoglutathione and derivatives thereof (for example, as an HIV-1 protease inhibitor) for the treatment of AIDS and neurodegenerative disorders.

Enhancement of Hematopoietic Cells

William J. Murphy (NCI), Susan M. Richards (NCI), Dan L. Longo (NIA)

DHHS Reference Nos. E-247-99/0 filed 21 Jan 1997 and E-247-99/1 filed 20 Jan 1998 (PCT/US98/00887)

Licensing Contact: J.P. Kim; 301/496-7056 ext. 264; e-mail: kimj@od.nih.gov

The present invention provides a method for enhancing hematopoiesis by contacting hematopoietic stem or progenitor cells with a composition containing prolactin, preferably recombinant prolactin. Stimulation of hematopoiesis can serve to replace hematopoietic cells. The invention further provides a method for treating an animal to improve hematopoiesis or prevent hematopoietic-suppression by administering a pharmaceutically acceptable composition containing prolactin. The invention further relates to a composition comprising a cytokine that can enhance hematopoiesis and prolactin, and a composition comprising a therapeutic that can cause hematopoietic-suppression and a prolactin.

Dated: July 19, 2000.
Jack Spiegel,
Director, Division of Technology Development and Transfer, Office of Technology Transfer, National Institutes of Health.

[FR Doc. 00-19152 Filed 7-27-00; 8:45 am]

BILLING CODE 4140-01-P